DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee meeting. This meeting is open to the public, limited only by the space available. The meeting room accommodates approximately 240 people. The meeting will be broadcast live via Webcast at http://www.cms.gov/live/.

DATES: The meeting will be held on March 6, 2018, 9:00 a.m. to 5:00 p.m. EST and March 7, 2018x, 9:00 a.m. to 5:00 p.m. EST.

ADDRESSES: Centers for Medicare and Medicaid Services (CMS) Auditorium, 7500 Security Boulevard, Baltimore, Maryland 21244.

FOR FURTHER INFORMATION CONTACT: Traci Ramirez, Program Specialist, CDC, 3311 Toledo Rd., Hyattsville, MD 20782; telephone (301) 458-4454; Email address TRamirez@cdc.gov.

SUPPLEMENTARY INFORMATION:

Purpose: The ICD-10 Coordination and Maintenance (C&M) Committee is a public forum for the presentation of proposed modifications to the International Classification of Diseases, Tenth Revision, Clinical Modification and ICD-10 Procedure Coding System.

Matters to be Considered: The agenda will include discussions on ICD-10-PCS Topics:

Blalock-Taussig Shunt Occlusion

Knee Replacement

Irreversible Electroporation (IRE)

Endovascular Cardiac Implant

Combined Thoracic Arch Replacement and Thoracic Aorta Restriction

Spinal Fusion with Radiolucent Hydroxyapatite

Interbody Fusion Device

Endovascular Intracranialy Thrombectomy

Cell Suspension Autografting

Trigard Cerebral Embolic Protection

Endobronchial Coils

Addenda and Key Updates

ICD-10-CM Topics:

Cyclic Vomiting

Electronic Nicotine Delivery System (ENDS)

Exertional Heat Stroke

Intracranial Hypotension

ICD-10-CM Addendum

Agenda items are subject to change as priorities dictate.

Security Considerations: Due to increased security requirements CMS has instituted stringent procedures for entrance into the building by non-government employees. Attendees will need to present valid government-issued picture identification, and sign-in at the security desk upon entering the building.

Attendees who wish to attend the March 6-7, 2018, ICD-10-CM C&M meeting must submit their name and organization by March 1, 2018, for inclusion on the visitor list. This visitor list will be maintained at the front desk of the CMS building and used by the guards to admit visitors to the meeting.

Participants who attended previous Coordination and Maintenance meetings will no longer be automatically added to the visitor list. You must request inclusion of your name prior to each meeting you wish attend.

Please register to attend the meeting on-line at: http://www.cms.hhs.gov/apps/events/.

Please contact Mady Hue (410-786-4510) or Marilu.hue@cms.hhs.gov for questions about the registration process.

Note: CMS and NCHS no longer provide paper copies of handouts for the meeting. Electronic copies of all meeting materials will be posted on the CMS and NCHS websites prior to the meeting at http://www.cms.hhs.gov/ICD9ProviderDiagnosticCodes/03_meetings.asp#TopOfPage and https://www.cdc.gov/nchs/icd/icd10cm_maintenance.htm.

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2018-00967 Filed 1-19-18; 8:45 am]

BILLING CODE 4160-18-P